DEPARTMENT OF TRANSPORTATION

Federal Railroad Administration

[Docket Number FRA-2018-0006]

Petition for Waiver of Compliance

Under part 211 of Title 49 Code of Federal Regulations (CFR), this provides the public notice that on January 5, 2018, Northern Plains Railroad (NPR), petitioned the Federal Railroad Administration (FRA) for a waiver of compliance from certain provisions of the Federal railroad safety regulations contained at 49 CFR part 229. FRA assigned the petition Docket Number FRA-2018-0006.

Specifically, NPR seeks a waiver of compliance from a portion of 49 CFR 229.47, Emergency brake valve, for five SD60F locomotives (Numbers 5513, 5517, 5518, 5525, and 5535) that were purchased from Canadian National Railway (CN). These units do not have the required emergency brake valve installed at the rear exit door.

NPR is a regional railroad operating on a 350-mile network in North Dakota and western Minnesota. NPR's primary commodities handled include wheat, soybeans, corn, aggregates, and miscellaneous industrial products. The maximum operating speed on the NPR is 25 miles per hour. NPR has had no history of vandalism, two reportable train accidents since 2013, and an injury frequency rate of under one percent for the last two years. NPR indicates that these units will be used in road service and will be paired together. NPR does not see this waiver of compliance adversely affecting safety.

NPR believes that 49 CFR 229.47 was established to provide a crew member a means of initiating an emergency stop when they are unable to give the locomotive operator a visual signal to stop while making a reverse movement. This would only apply to locomotives that do not have an exposed walkway on the end of the car body. The five full body locomotives are all equipped with a walkway and corner steps that provide a position for crew to direct the locomotive engineer while making a reverse movement. Because these end platforms, which are identical to that of a regular body locomotive, are available and equipped with corner steps, NPR crews would not place themselves inside the locomotive engine compartment to direct a reverse movement, thereby making the application of this emergency brake valve meaningless. Therefore, NPR is requesting a waiver from the requirement that an emergency brake pipe valve be installed adjacent to the rear door for these five units.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by March 19, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety Chief Safety Officer.

[FR Doc. 2018-01962 Filed 1-31-18; 8:45 am]

BILLING CODE 4910-06-P